DEPARTMENT OF COMMERCE

Bureau of Industry and Security

15 CFR Part 744

[Docket No. 170714666-7666-01]

RIN 0694-AH42

Addition of Certain Entities; and Modification of Entry on the Entity List

AGENCY: Bureau of Industry and Security, Commerce.

ACTION: Final rule.

SUMMARY: This rule amends the Export Administration Regulations (EAR) by adding forty-four entities (eight entities and thirty-six subordinate institutions) to the Entity List. The entities that are being added to the Entity List have been determined by the U.S. Government to be acting contrary to the national security or foreign policy interests of the United States. These entities will be listed on the Entity List under the destination of China. This rule also modifies one entry under China to provide additional addresses and names for the entity at issue.

DATES: This rule is effective August 1, 2018.

FOR FURTHER INFORMATION CONTACT: Chair, End-User Review Committee, Office of the Assistant Secretary, Export Administration, Bureau of Industry and Security, Department of Commerce, Phone: (202) 482-5991, Email: ERC@bis.doc.gov.

SUPPLEMENTARY INFORMATION:

Background

The Entity List (Supplement No. 4 to part 744) identifies entities reasonably believed to be involved, or to pose a significant risk of being or becoming involved, in activities contrary to the national security or foreign policy interests of the United States. The EAR imposes additional license requirements on, and limits the availability of most license exceptions for, exports, reexports, and transfers (in-country) to listed entities. The “license review policy” for each listed entity is identified in the License Review Policy column on the Entity List and the impact on the availability of license exceptions is described in the Federal Register notice adding entities to the Entity List. BIS places entities on the Entity List pursuant to sections of part 744 (Control Policy: End-User and End-Use Based) and part 746 (Embargoes and Other Special Controls) of the EAR.

The End-User Review Committee (ERC), composed of representatives of the Departments of Commerce (Chair), State, Defense, Energy and, where appropriate, the Treasury, makes all decisions regarding additions to, removals from, or other modifications to the Entity List. The ERC makes all decisions to add an entry to the Entity List by majority vote and all decisions to remove or modify an entry by unanimous vote.

ERC Entity List Decisions

Additions to the Entity List

This rule implements the decision of the ERC to add forty-four entities (eight entities and thirty-six of their subordinate institutions) to the Entity List. These entities are being added on the basis of § 744.11 (License requirements that apply to entities acting contrary to the national security or foreign policy interests of the United States) of the EAR. All of the entities added as part of this rule are located in China.

The ERC reviewed § 744.11(b) (Criteria for revising the Entity List) in making the determination to add these entities to the Entity List. Under that paragraph, entities for which there is reasonable cause to believe, based on specific and articulable facts, that the entity has been involved, is involved, or poses a significant risk of being or becoming involved in, activities that are contrary to the national security or foreign policy interests of the United States, and those acting on behalf of such entity, may be added to the Entity List. Paragraphs (b)(1) through (5) of § 744.11 provide an illustrative list of activities that could be contrary to the national security or foreign policy interests of the United States.

The ERC determined that seventeen entities, China Electronic Technology Group Corporation (CETC) 13, and twelve of its subordinate institutions; CETC-55, and two of its subordinate institutions; and Hebei Far East Communication System Engineering, all located in China, be added to the Entity List for actions contrary to the national security or foreign policy interests of the United States. These seventeen entities are being added to the Entity List on the basis of their involvement in the procurement of U.S.-origin items for activities contrary to the national security and foreign policy interests of the United States. Specifically, the ERC determined that there is reasonable cause to believe, based on specific and articulable facts, that all of these entities are involved in the illicit procurement of commodities and technologies for unauthorized military end-use in China.

The ERC determined that twenty-seven entities, China Aerospace Science and Industry Corporation Second Academy, and thirteen of its subordinate institutions; China Electronics Technology Group Corporation 14th Research Institute, and two of its subordinate institutions; China Electronics Technology Group Corporation 38th Research Institute, and seven of its subordinate institutions; China Tech Hi Industry Import and Export Corporation; and China Volant Industry, all located in China, be added to the Entity List for actions contrary to the national security or foreign policy interests of the United States. The ERC determined that for these twenty-seven entities there is reasonable cause to believe, based on specific and articulable facts, that there is an unacceptable risk of use in (or diversion of U.S.-origin items to) military end-use activities in China.

Pursuant to § 744.11(b) of the EAR, the ERC determined that the conduct of all forty-four of these entities raises sufficient concern that prior review of exports, reexports or transfers (in-country) of all items subject to the EAR involving these entities, and the possible imposition of license conditions or license denials on shipments to the entities, will enhance BIS's ability to prevent violations of the EAR.

For all forty-four entities added to the Entity List in this final rule, BIS imposes a license requirement for all items subject to the EAR, and a license review policy of presumption of denial. The license requirements apply to any transaction in which items are to be exported, reexported or transferred (in-country) to any of the entities or in which such entities act as purchaser, intermediate consignee, ultimate consignee, or end-user. In addition, no license exceptions are available for exports, reexports or transfers (in-country) to the entities being added to the Entity List in this rule. The acronym “a.k.a.” (also known as) is used in entries on the Entity List to identify aliases and help exporters, reexporters and transferors to better identify entities on the Entity List.

This rule adds the following entities to the Entity List:

China

(1) China Aerospace Science and Industry Corporation Second Academy, a.k.a., the following eight aliases, and thirteen subordinate institutions:

—China Changfeng Mechanics and Electronics Technology Academy;

—China Chang Feng Mechano-Electronic Engineering Academy;

—CASIC Second Academy;

—China Chang Feng Mechano-Electronic Engineering Company;

—CASIC Academy of Defense Technology;

—Second Research Academy of CASIC;

—Changfeng Electromechanical Technology Design Institute; and

—China Chang Feng Mechanics and Electronics Technology Academy.

Subordinate Institution

Second Design Department, a.k.a., the following two aliases:

—Beijing Institute of Electronics Systems Engineering; and

—Second Planning Department.

Subordinate Institution

23rd Research Institute, a.k.a., the following two aliases:

—Beijing Institute of Radio Measurement; and

—BIRM.

Subordinate Institution

25th Research Institute, a.k.a., the following one alias:

—Beijing Institute of Remote Sensing Equipment.

Subordinate Institution

201 Research Institute, a.k.a., the following one alias:

—Aerospace Science and Technology Defense Technology Research and Experimental Center.

Subordinate Institution

203rd Research Institute, a.k.a., the following two aliases:

—Beijing Radio Measurement and Testing Institute; and

—Beijing Institute of Radio Metrology and Measurement.

Subordinate Institution

204th Research Institute, a.k.a., the following two aliases:

—Beijing Institute of Computer Applications and Simulation Technology; and

—706th Research Institute.

Subordinate Institution

206th Research Institute, a.k.a., the following two aliases:

—Beijing Institute of Mechanical Equipment; and

—Beijing Institute of Machinery and Equipment.

Subordinate Institution

207th Research Institute, a.k.a., the following three aliases:

—Beijing Guangda Optoelectronics;

—Beijing Institute of Environmental Features; and

—Beijing Institute of Environmental Characteristics.

Subordinate Institution

208th Research Institute, a.k.a., the following one alias:

—Beijing Electronic Document Service Center.

Subordinate Institution

210th Research Institute, a.k.a., the following one alias:

—Xian Changfeng Electromechanical Institute.

Subordinate Institution

283 Factory, a.k.a., the following one alias:

—Beijing Xinfeng Machinery Factory.

Subordinate Institution

284 Factory, a.k.a., the following two aliases:

—Beijing Changfeng Machinery Factory; and

—Beijing Changfeng Xinlian Project Management.

Subordinate Institution

699 Factory, a.k.a., the following one alias:

—Beijing Xinli Machinery Factory.

The following addresses apply to the entity and to the thirteen subordinate institutions:

50 Yongding Road, Haidian District, Beijing, China; and 51 Yongding Road, Haidian District, Beijing, China; and 52 Yongding Road, Haidian District, Beijing, China; and 58 Yongding Road, Haidian District, Beijing, China; and 90 Dianzi Road, Section One, Xian, China.

(2) China Electronics Technology Group Corporation 13th Research Institute (CETC 13), a.k.a., the following six aliases, and twelve subordinate institutions:

—Hebei Semiconductor Research Institute;

—HSRI;

—Hebei Institute of Semiconductors;

—Heibei Semiconductor Institute;

—Hebei Semiconductor; and

—CETC Research Institute 13.

113 Hezuo Road, Shijiazhuang, Hebei, China; and 21 Changsheng Street, Shijiazhuang, Hebei, China; and 21 Changsheng Road, Shijiazhuang, Hebei, China;

Subordinate Institution

Bowei Integrated Circuits, a.k.a., the following three aliases:

—Hebei Bowei Integrated;

—Hebei Bowel Technology; and

—Shijuang Bowei.

113 Hezuo Road, Shijiazhuang, Hebei, China; and 21 Changsheng Street, Shijiazhuang, Hebei, China; and 21 Changsheng Road, Shijiazhuang, Hebei, China; and Shijiazhuang New and Hi-Tech Dev Zone, Hebei, China.

Subordinate Institution

Envoltek, a.k.a., the following one alias:

—Hebei Envoltek Electronics.

21 Changsheng Street, Shijiazhuang, Hebei, China; and 21 Changsheng Road, Shijiazhuang, Hebei, China.

Subordinate Institution

Hebei Sinopack Electronics, a.k.a., the following one alias:

—Hebei Sinapack Elec.

113 Hezuo Road, Shijiazhuang, Hebei, China; and 21 Changsheng Street, Shijiazhuang, Hebei, China; and 21 Changsheng Road, Shijiazhuang, Hebei, China.

Subordinate Institution

Hebei Brightway International,

21 Changsheng Street, Shijiazhuang, Hebei, China; and 21 Changsheng Road, Shijiazhuang, Hebei, China.

Subordinate Institution

Hebei Medicines Health,

113 Hezuo Road, Shijiazhuang, Hebei, China.

Subordinate Institution

Hebei Poshing Electronics, a.k.a., the following three aliases:

—Hebei Poshin Electronics;

—Hebei Poshing Elec.; and

—Hubei PoshingElectronics.

113 Hezuo Road, Shijiazhuang, Hebei, China; and 21 Changsheng Street, Shijiazhuang, Hebei, China; and 21 Changsheng Road, Shijiazhuang, Hebei, China.

Subordinate Institution

Hebei Puxing Electronic,

113 Hezuo Road, Shijiazhuang, Hebei, China; and 21 Changsheng Street, Shijiazhuang, Hebei, China; and 21 Changsheng Road, Shijiazhuang, Hebei, China.

Subordinate Institution

Micro Electronic Technology, a.k.a., the following three aliases:

—Micro Electronic Technology Development Application Corp;

—METDA;

—METDAC.

113 Hezuo Road, Shijiazhuang, Hebei, China.

Subordinate Institution

Shijiazhuang Development Zone Maiteda Microelectronics Technology Development and Application Corporation,

21 Changsheng Street, Shijiazhuang, Hebei, China; and 21 Changsheng Road, Shijiazhuang, Hebei, China.

Subordinate Institution

MT Microsystems,

113 Hezuo Road, Shijiazhuang, Hebei, China.

Subordinate Institution

North China Integrated Circuit Corporation,

21 Changsheng Street, Shijiazhuang, Hebei, China; and 21 Changsheng Road, Shijiazhuang, Hebei, China; and 113 Hezuo Road, Shijiazhuang, Hebei, China.

Subordinate Institution

Tonghui Electronics, a.k.a., the following one alias:

—Tonghui Electronics Technology.

21 Changsheng Street, Shijiazhuang, Hebei, China; and 21 Changsheng Road, Shijiazhuang, Hebei, China;

(3) China Electronics Technology Group Corporation 14th Research Institute (CETC 14), a.k.a., the following seven aliases, and two subordinate institutions:

—Nanjing Research Institute of Electronics Technology;

—NRIET;

—Nanjing Electronics Technology Institute;

—Ministry of Information Industry Electronics;

—No 14 Research Institute;

—Research Institute 14; and

—CETC Research Institute 14.

Subordinate Institution

Nanjing SunSea Industry Corporation.

Subordinate Institution

Nanjing Institute of Radio Technology,

The following addresses apply to the entity and to the two subordinate institutions:

No 1 Dinghuaimen, Nanjing, China; and No 8 Guorui Road, Yuhua District, Nanjing, China; and No 4 Guping Gang, Nanjing, China; and 52 Huju Road, North, Nanjing, China;

(4) China Electronics Technology Group Corporation 38th Research Institute (CETC 38), a.k.a., the following seven aliases, and seven subordinate institutions:

—Hefei Institute of Electronic Engineering;

—Southwest China Research Institute of Radar Technology;

—East China Research Institute of Electronic Engineering;

—ECRIEE;

—No 38 Research Institute;

—Research Institute 38; and

—CETC Research Institute 38.

Subordinate Institution

Anhui Sun-Create Electronics.

Subordinate Institution

Anhui Bowei Chang An Electronics.

Subordinate Institution

ECU Electronic Industrial.

Subordinate Institution

Hefei ECU-TAMURA Electric.

Subordinate Institution

Anhui Bowei Guangcheng Information Technology.

Subordinate Institution

Anhui Bowei Ruida Electronics Technology.

Subordinate Institution

Brainware Terahertz.

The following addresses apply to the entity and to the seven subordinate institutions:

199 Xiangzhang Ave, Hefei, Anhui, China; and 19 He Huan Lu, Hefei, China; and 19 Hehuan Road, Hefei, China; and 418 Guilin Road, Shanghai, China; and 260 Ji Xi Road, Hefei, China; and 88 Pihe Road, Hefei, China; and Forward Road, Economics Development Zone of Luan, Luan, Anhui, China;

(5) China Electronics Technology Group Corporation 55th Research Institute (CETC 55), a.k.a., the following four aliases, and two subordinate institutions:

—Nanjing Electronic Devices Institute;

—CETC Research Institute 55;

—NEDI; and

—NEDTEK.

524 Zhongzhan East Road, Nanjing, Jiangsu, China; and 524 East Zhongshan Road, Nanjing, Jiangsu, China; and 523 East Zhongshang Road, Nanjing, Jiangsu, China; and 166 Middle Zhenghang Road, Nanjing, China; and 166 Zhengfang Mid Road, Nanjing, China; and 166 Zhengfand Mid Road, Nanjing, China; and Huaxia Sci and Tech Park Hi-Tech Development, Nanjing, China; and RM 2105 Huaxia Bldg, No 81 Zhongshan Rd, Nanjing, China; and 8 Xingwen Road, Economic and Tech, Nanjing, China.

Subordinate Institution

Nanjing Guosheng Electronics,

8 Xingwen Road, Economic and Tech, Nanjing, China; and 166 Middle Zhenghang Road, Nanjing, China; and 166 Zhengfang Mid Road, Nanjing, China; and 166 Zhengfand Mid Road, Nanjing, China; and 168 Zhengfand Mid Road, Nanjing, China; and 165 Zhangfang Mid-Road, Nanjing, China; and 414 South Zhong Shan Road, Nanjing, Jiangsu, China.

Subordinate Institution

Nanjing Guobo Electronic,

166 Zhengfang Mid Road, Nanjing, China;

(6) China Tech Hi Industry Import and Export Corporation, a.k.a., the following two aliases:

—CTHC; and

—Tianhang Industry Import and Export Company.

30 Haidian Road, Beijing, China; and No A 16 Zao Jun Miao, Haidian, Beijing, China;

(7) China Volant Industry, a.k.a., the following two aliases:

—Volinco; and

—China Huateng Industry.

30 Haidian Road, Beijing, China; and Room 703, 7th Floor, Building 1, No 11, Changchunqiao Road, Haidian District, Beijing, China; and

(8) Hebei Far East Communication System Engineering, a.k.a., the following two aliases:

—Hebei Far East Comm.; and

—HBFEC.

21 Changsheng Street, Shijiazhuang, Hebei, China; and 21 Changsheng Road, Shijiazhuang, Hebei, China; and 589 West Zhongshan Road, Shijiazhuang, Hebei, China.

Modifications to the Entity List

This final rule implements a decision of the ERC to modify one existing entry on the Entity List. The ERC made a determination to revise one entry under the destination of China by adding three additional aliases and five additional addresses to the entry for Chengdu GaStone Technology Co., Ltd. (CGTC), for a total of four aliases and nine addresses.

This final rule revises one entry on the Entity List to make the modifications described above:

(1) Chengdu GaStone Technology Co., Ltd. (CGTC), a.k.a., the following four aliases:

—-Chengdu Jiashi Technology Co.;

—Chengdu HiWafer Semiconductor;

—Chengdu Haiwei Technology; and

—Chengdu Zenith.

31F, A Tower, Yanlord Square, No. 1, Section 2, Renmind South Road, Chengdu China; and Internet of Things Industrial Park Economic Development District Xinan Hangkonggang (Southwest Airport), Shuangliu County, Chengdu; and 29th Floor, Yanlord Landmark, No. 1 Renmin South Road Section 2, Chengdu; and 29/F Yanlord Landmark Tower A, Chengdu, China; and Union Road, No 88 Internet of Things Industrial, Chengdu, China; and No 88 Wulian Road, Southwest Airp Development Zone, Chengdu, China; and Industrial Park of Internet of Thing SW Airport Eco Dev Zone, Chengdu, China; and Internet Things of Industrial Pa Southwest Airport Economic, Chengdu, China; and The Industrial Park of Internet of Things, Southwest Airport Economic Development Zone, Chengdu, China.

Export Administration Act of 1979

Although the Export Administration Act of 1979 expired on August 20, 2001, the President, through Executive Order 13222 of August 17, 2001, 3 CFR, 2001 Comp., p. 783 (2002), as amended by Executive Order 13637 of March 8, 2013, 78 FR 16129 (March 13, 2013) and as extended by the Notice of August 15, 2017, 82 FR 39005 (August 16, 2017), has continued the Export Administration Regulations in effect under the International Emergency Economic Powers Act. BIS continues to carry out the provisions of the Export Administration Act of 1979, as appropriate and to the extent permitted by law, pursuant to Executive Order 13222, as amended by Executive Order 13637.

Rulemaking Requirements

1. Executive Orders 13563 and 12866 direct agencies to assess all costs and benefits of available regulatory alternatives and, if regulation is necessary, to select regulatory approaches that maximize net benefits (including potential economic, environmental, public health and safety effects, distributive impacts, and equity). Executive Order 13563 emphasizes the importance of quantifying both costs and benefits, of reducing costs, of harmonizing rules, and of promoting flexibility. This rule has been determined to be not significant for purposes of Executive Order 12866. This rule is not an Executive Order 13771 regulatory action because this rule is not significant under Executive Order 12866.

2. Notwithstanding any other provision of law, no person is required to respond to nor be subject to a penalty for failure to comply with a collection of information, subject to the requirements of the Paperwork Reduction Act of 1995 (44 U.S.C. 3501 et seq.) (PRA), unless that collection of information displays a currently valid Office of Management and Budget (OMB) Control Number. This regulation involves collections previously approved by OMB under control number 0694-0088, Simplified Network Application Processing System, which includes, among other things, license applications, and carries a burden estimate of 43.8 minutes for a manual or electronic submission.

Total burden hours associated with the PRA and OMB control number 0694-0088 are not expected to increase as a result of this rule. You may send comments regarding the collection of information associated with this rule, including suggestions for reducing the burden, to Jasmeet K. Seehra, Office of Management and Budget (OMB), by email to Jasmeet_K._Seehra@omb.eop.gov, or by fax to (202) 395-7285.

3. This rule does not contain policies with Federalism implications as that term is defined in Executive Order 13132.

4. For the entities added to the Entity List in this rule, the provisions of the Administrative Procedure Act (5 U.S.C. 553) requiring notice of proposed rulemaking, the opportunity for public participation and a 30-day delay in effective date are inapplicable because this regulation involves a military or foreign affairs function of the United States (5 U.S.C. 553(a)(1)). BIS's implementation of this rule is necessary to protect U.S. national security and foreign policy interests by preventing items subject to the EAR from being exported, reexported, or transferred (in-country) to the entities being added to the Entity List. If this rule were delayed to allow for notice and comment and a delay in effective date, the entities being added to the Entity List by this action would continue to be able to receive items subject to the EAR without a BIS license and to conduct activities contrary to the national security or foreign policy interests of the United States. In addition, publishing a proposed rule would give these entities notice of the U.S. Government's intention to place them on the Entity List, which could provide them with an incentive to accelerate their receipt of items subject to the EAR to conduct activities that are contrary to the national security or foreign policy interests of the United States, including taking steps to set up additional aliases, change addresses, and engaging in other measures to try to limit the impact of the listing on the Entity List once a final rule was published. Further, no other law requires that a notice of proposed rulemaking and an opportunity for public comment be provided for this rule.

5. The Department finds that there is good cause under 5 U.S.C. 553(b)(3)(B) to waive the provisions of the Administrative Procedure Act (APA) requiring prior notice and the opportunity for public comment for the one modification to an Entity list entry included in this rule because doing so would be contrary to the public interest. In addition, the one change is limited to providing additional addresses and aliases, which will assist the public in more easily identifying the listed entity.

6. Because a notice of proposed rulemaking and an opportunity for public comment are not required to be given for this rule by 5 U.S.C. 553, or by any other law, the analytical requirements of the Regulatory Flexibility Act, 5 U.S.C. 601 et seq., are not applicable. Accordingly, no regulatory flexibility analysis is required and none has been prepared.

List of Subjects in 15 CFR Part 744

Exports, Reporting and recordkeeping requirements, Terrorism.

Accordingly, part 744 of the Export Administration Regulations (15 CFR parts 730-774) is amended as follows:

PART 744—[AMENDED]

1. The authority citation for 15 CFR part 744 continues to read as follows:

Authority: 50 U.S.C. 4601 et seq.; 50 U.S.C. 1701 et seq.; 22 U.S.C. 3201 et seq.; 42 U.S.C. 2139a; 22 U.S.C. 7201 et seq.; 22 U.S.C. 7210; E.O. 12058, 43 FR 20947, 3 CFR, 1978 Comp., p. 179; E.O. 12851, 58 FR 33181, 3 CFR, 1993 Comp., p. 608; E.O. 12938, 59 FR 59099, 3 CFR, 1994 Comp., p. 950; E.O. 12947, 60 FR 5079, 3 CFR, 1995 Comp., p. 356; E.O. 13026, 61 FR 58767, 3 CFR, 1996 Comp., p. 228; E.O. 13099, 63 FR 45167, 3 CFR, 1998 Comp., p. 208; E.O. 13222, 66 FR 44025, 3 CFR, 2001 Comp., p. 783; E.O. 13224, 66 FR 49079, 3 CFR, 2001 Comp., p. 786; Notice of August 15, 2017, 82 FR 39005 (August 16, 2017); Notice of September 18, 2017, 82 FR 43825 (September 19, 2017); Notice of November 6, 2017, 82 FR 51971 (November 8, 2017); Notice of January 17, 2018, 83 FR 2731 (January 18, 2018).

2. Supplement No. 4 to part 744 is amended under China, People's Republic of:

a. By revising one entity “Chengdu GaStone Technology Co., Ltd. (CGTC)”; and

b. By adding, in alphabetical order, eight entities.

The additions and revisions read as follows:

Supplement No. 4 to Part 744—Entity List

* * * * *

Country | Entity | License requirement | License review policy | Federal Register citation
* * * * * * *
CHINA, PEOPLE'S REPUBLIC OF | * * * * * *
| Chengdu GaStone Technology Co., Ltd. (CGTC), a.k.a., the following four aliases: —Chengdu Jiashi Technology Co.; —Chengdu HiWafer Semiconductor; —Chengdu Haiwei Technology; and —Chengdu Zenith. | For all items subject to the EAR. (See § 744.11 of the EAR). | Presumption of denial | 79 FR 44683, 8/1/14. 81 FR 14958, 3/21/16. 83 FR [INSERT FR PAGE NUMBER], 8/1/2018.
| 31F, A Tower, Yanlord Square, No. 1, Section 2, Renmind South Road, Chengdu China; and Internet of Things Industrial Park Economic Development District Xinan Hangkonggang (Southwest Airport), Shuangliu County, Chengdu; and 29th Floor, Yanlord Landmark, No. 1 Renmin South Road Section 2, Chengdu; and 29/F Yanlord Landmark Tower A, Chengdu, China; and Union Road, No 88 Internet of Things Industrial, Chengdu, China; and No 88 Wulian Road, Southwest Airp Development Zone, Chengdu, China; and Industrial Park of Internet of Thing SW Airport Eco Dev Zone, Chengdu, China; and Internet Things of Industrial Pa Southwest Airport Economic, Chengdu, China; and The Industrial Park of Internet of Things, Southwest Airport Economic Development Zone, Chengdu, China
| * * * * * *
| China Aerospace Science and Industry Corporation Second Academy, a.k.a., the following eight aliases, and thirteen subordinate institutions: | For all items subject to the EAR. (See § 744.11 of the EAR) | Presumption of denial | 83 FR [INSERT FR PAGE NUMBER], 8/1/2018.
| —China Changfeng Mechanics and Electronics Technology Academy;
| —China Chang Feng Mechano-Electronic Engineering Academy;
| —CASIC Second Academy;
| —China Chang Feng Mechano-Electronic Engineering Company;
| —CASIC Academy of Defense Technology;
| —Second Research Academy of CASIC;
| —Changfeng Electromechanical Technology Design Institute; and
| —China Chang Feng Mechanics and Electronics Technology Academy.
| Subordinate institution Second Design Department, a.k.a., the following two aliases: —Beijing Institute of Electronics Systems Engineering; and —Second Planning Department.
| Subordinate institution 23rd Research Institute, a.k.a., the following two aliases: —Beijing Institute of Radio Measurement; and —BIRM.
| Subordinate institution 25th Research Institute, a.k.a., the following one alias: —Beijing Institute of Remote Sensing Equipment.
| Subordinate institution 201 Research Institute, a.k.a., the following one alias: —Aerospace Science and Technology Defense Technology Research and Experimental Center.
| Subordinate institution 203rd Research Institute, a.k.a., the following two aliases: —Beijing Radio Measurement and Testing Institute; and —Beijing Institute of Radio Metrology and Measurement.
| Subordinate institution 204th Research Institute, a.k.a., the following two aliases: —Beijing Institute of Computer Applications and Simulation Technology; and —706th Research Institute.
| Subordinate institution 206th Research Institute, a.k.a., the following two aliases: —Beijing Institute of Mechanical Equipment; and —Beijing Institute of Machinery and Equipment.
| Subordinate institution 207th Research Institute, a.k.a., the following three aliases: —Beijing Guangda Optoelectronics; —Beijing Institute of Environmental Features; and —Beijing Institute of Environmental Characteristics.
| Subordinate institution 208th Research Institute, a.k.a., the following one alias: —Beijing Electronic Document Service Center.
| Subordinate institution 210th Research Institute, a.k.a., the following one alias: —Xian Changfeng Electromechanical Institute.
| Subordinate institution 283 Factory, a.k.a., the following one alias: —Beijing Xinfeng Machinery Factory.
| Subordinate institution 284 Factory, a.k.a., the following two aliases: —Beijing Changfeng Machinery Factory; and —Beijing Changfeng Xinlian Project Management.
| Subordinate institution 699 Factory, a.k.a., the following one alias: —Beijing Xinli Machinery Factory.
| The following addresses apply to the entity and to the thirteen subordinate institutions:
| 50 Yongding Road, Haidian District, Beijing, China; and 51 Yongding Road, Haidian District, Beijing, China; and 52 Yongding Road, Haidian District, Beijing, China; and 58 Yongding Road, Haidian District, Beijing, China; and 90 Dianzi Road, Section One, Xian, China.
| * * * * * *
| China Electronics Technology Group Corporation 13th Research Institute (CETC 13), a.k.a., the following six aliases, and twelve subordinate institutions: | For all items subject to the EAR. (See § 744.11 of the EAR). | Presumption of denial | 83 FR [INSERT FR PAGE NUMBER], 8/1/2018.
| —Hebei Semiconductor Research Institute;
| —HSRI;
| —Hebei Institute of Semiconductors;
| —Hebei Semiconductor Institute;
| —Hebei Semiconductor; and
| —CETC Research Institute 13.
| 113 Hezuo Road, Shijiazhuang, Hebei, China; and 21 Changsheng Street, Shijiazhuang, Hebei, China; and 21 Changsheng Road, Shijiazhuang, Hebei, China.
| Subordinate institution Bowei Integrated Circuits, a.k.a., the following three aliases:
| —Hebei Bowei Integrated;
| —Hebei Bowel Technology; and
| —Shijuang Bowei.
| 113 Hezuo Road, Shijiazhuang, Hebei, China; and 21 Changsheng Street, Shijiazhuang, Hebei, China; and 21 Changsheng Road, Shijiazhuang, Hebei, China; and Shijiazhuang New and Hi-Tech Dev Zone, Hebei, China.
| Subordinate institution Envoltek, a.k.a., the following one alias:
| —Hebei Envoltek Electronics.
| 21 Changsheng Street, Shijiazhuang, Hebei, China; and 21 Changsheng Road, Shijiazhuang, Hebei, China.
| Subordinate institution Hebei Sinopack Electronics, a.k.a., the following one alias:
| —Hebei Sinapack Elec.
| 113 Hezuo Road, Shijiazhuang, Hebei, China; and 21 Changsheng Street, Shijiazhuang, Hebei, China; and 21 Changsheng Road, Shijiazhuang, Hebei, China.
| Subordinate institution Hebei Brightway International,
| 21 Changsheng Street, Shijiazhuang, Hebei, China; and 21 Changsheng Road, Shijiazhuang, Hebei, China.
| Subordinate institution Hebei Medicines Health, 113 Hezuo Road, Shijiazhuang, Hebei, China.
| Subordinate institution Hebei Poshing Electronics, a.k.a., the following three aliases:
| —Hebei Poshin Electronics;
| —Hebei Poshing Elec.; and
| —Hubei PoshingElectronics.
| 113 Hezuo Road, Shijiazhuang, Hebei, China; and 21 Changsheng Street, Shijiazhuang, Hebei, China; and 21 Changsheng Road, Shijiazhuang, Hebei, China.
| Subordinate institution Hebei Puxing Electronic, 113 Hezuo Road, Shijiazhuang, Hebei, China; and 21 Changsheng Street, Shijiazhuang, Hebei, China; and 21 Changsheng Road, Shijiazhuang, Hebei, China.
| Subordinate institution Micro Electronic Technology, a.k.a., the following three aliases:
| —Micro Electronic Technology Development Application Corp;
| —METDA; and
| —METDAC. 113 Hezuo Road, Shijiazhuang, Hebei, China.
| Subordinate institution Shijiazhuang Development Zone Maiteda Microelectronics Technology Development and Application Corporation,
| 21 Changsheng Street, Shijiazhuang, Hebei, China; and 21 Changsheng Road, Shijiazhuang, Hebei, China.
| Subordinate institution MT Microsystems,
| 113 Hezuo Road, Shijiazhuang, Hebei, China.
| Subordinate institution North China Integrated Circuit Corporation,
| 21 Changsheng Street, Shijiazhuang, Hebei, China; and 21 Changsheng Road, Shijiazhuang, Hebei, China; and 113 Hezuo Road, Shijiazhuang, Hebei, China.
| Subordinate institution Tonghui Electronics, a.k.a., the following one alias:
| —Tonghui Electronics Technology.
| 21 Changsheng Street, Shijiazhuang, Hebei, China; and 21 Changsheng Road, Shijiazhuang, Hebei, China.
| China Electronics Technology Group Corporation 14th Research Institute (CETC 14), a.k.a., the following seven aliases, and two subordinate institutions: | For all items subject to the EAR. (See § 744.11 of the EAR). | Presumption of denial | 83 FR [INSERT FR PAGE NUMBER], 8/1/2018.
| —Nanjing Research Institute of Electronics Technology;
| —NRIET;
| —Nanjing Electronics Technology Institute;
| —Ministry of Information Industry Electronics;
| —No 14 Research Institute;
| —Research Institute 14; and
| —CETC Research Institute 14.
| Subordinate institution Nanjing SunSea Industry Corporation.
| Subordinate institution Nanjing Institute of Radio Technology.
| The following addresses apply to the entity and the two subordinate institutions:
| No 1 Dinghuaimen, Nanjing, China; and No 8 Guorui Road, Yuhua District, Nanjing, China; and No 4 Guping Gang, Nanjing, China; and 52 Huju Road, North, Nanjing, China.
| * * * * * *
| China Electronics Technology Group Corporation 38th Research Institute (CETC 38), a.k.a., the following seven aliases, and seven subordinate institutions: | For all items subject to the EAR. (See § 744.11 of the EAR). | Presumption of denial | 83 FR [INSERT FR PAGE NUMBER], 8/1/2018.
| —Hefei Institute of Electronic Engineering;
| —Southwest China Research Institute of Radar Technology;
| —East China Research Institute of Electronic Engineering;
| —ECRIEE;
| —No 38 Research Institute;
| —Research Institute 38; and
| —CETC Research Institute 38.
| Subordinate institution Anhui Sun-Create Electronics.
| Subordinate institution Anhui Bowei Chang An Electronics.
| Subordinate institution ECU Electronic Industrial.
| Subordinate institution Hefei ECU-TAMURA Electric.
| Subordinate institution Anhui Bowei Guangcheng Information Technology.
| Subordinate institution Anhui Bowei Ruida Electronics Technology.
| Subordinate institution Brainware Terahertz.
| The following addresses apply to the entity and to the seven subordinate institutions:
| 199 Xiangzhang Ave, Hefei, Anhui, China; and 19 He Huan Lu, Hefei, China; and 19 Hehuan Road, Hefei, China; and 418 Guilin Road, Shanghai, China; and 260 Ji Xi Road, Hefei, China; and 88 Pihe Road, Hefei, China; and Forward Road, Economics Development Zone of Luan, Luan, Anhui, China.
| China Electronics Technology Group Corporation 55th Research Institute (CETC 55), a.k.a., the following four aliases, and two subordinate institutions: | For all items subject to the EAR. (See § 744.11 of the EAR). | Presumption of denial | 83 FR [INSERT FR PAGE NUMBER], 8/1/2018.
| —Nanjing Electronic Devices Institute;
| —CETC Research Institute 55;
| —NEDI; and
| —NEDTEK.
| 524 Zhongzhan East Road, Nanjing, Jiangsu, China; and 524 East Zhongshan Road, Nanjing, Jiangsu, China; and 523 East Zhongshang Road, Nanjing, Jiangsu, China; and 166 Middle Zhenghang Road, Nanjing, China; and 166 Zhengfand Mid Road, Nanjing, China; and 166 Zhengfang Mid Road, Nanjing, China; and Huaxia Sci and Tech Park Hi-Tech Development, Nanjing, China; and RM 2105 Huaxia Bldg, No 81 Zhongshan Rd, Nanjing, China; and 8 Xingwen Road, Economic and Tech, Nanjing, China.
| Subordinate institution Nanjing Guosheng Electronics,
| 8 Xingwen Road, Economic and Tech, Nanjing,Chia; and 166 Middle Zhenghang Road, Nanjing, China; and 166 Zhengfang Mid Road, Nanjing, China; and 166 Zhengfand Mid Road, Nanjing, China; and 168 Zhengfand Mid Road, Nanjing, China; and 165 Zhangfang Mid-Road, Nanjing, China; and 414 South Zhong Shan Road, Nanjing, Jiangsu, China; and
| Subordinate institution Nanjing Guobo Electronic,
| 166 Zhengfang Mid Road, Nanjing, China.
| China Tech Hi Industry Import and Export Corporation, a.k.a., the following two aliases: | For all items subject to the EAR. (See § 744.11 of the EAR). | Presumption of denial | 83 FR [INSERT FR PAGE NUMBER], 8/1/2018.
| —CTHC; and
| —Tianhang Industry Import and Export Company.
| 30 Haidian Road, Beijing, China; and No A 16 Zao Jun Miao, Haidian, Beijing, China.
| China Volant Industry a.k.a., the following two aliases: | For all items subject to the EAR. (See § 744.11 of the EAR). | Presumption of denial | 83 FR [INSERT FR PAGE NUMBER], 8/1/2018.
| —Volinco; and
| —China Huateng Industry.
| 30 Haidian Road, Beijing, China; and Room 703, 7th Floor, Building 1, No 11, Changchunqiao Road, Haidian District, Beijing, China.
| * * * * * *
| Hebei Far East Communication System Engineering, a.k.a., the following two aliases: | For all items subject to the EAR. (See § 744.11 of the EAR). | Presumption of denial | 83 FR [INSERT FR PAGE NUMBER], 8/1/2018.
| —Hebei Far East Comm.; and
| —HBFEC.
| 21 Changsheng Street, Shijiazhuang, Hebei, China; and 21 Changsheng Road, Shijiazhuang, Hebei, China; and 589 West Zhongshan Road, Shijiazhuang, Hebei, China.
| * * * * * *
* * * * * * *

Dated: July 27, 2018.
Richard E. Ashooh,
Assistant Secretary for Export Administration.

[FR Doc. 2018-16474 Filed 7-31-18; 8:45 am]

BILLING CODE 3510-33-P